DEPARTMENT OF COMMERCE

National Oceanic and Atmospheric Administration

RIN 0648-XD762

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a meeting via webinar.

DATES: The Webinar will be held Tuesday, March 3, 2015, 1 p.m. to 4 p.m., Eastern Time.

ADDRESSES: The meeting will be held via webinar—registration information can be found at http://gulfcouncil.org/council_meetings/panel_committee_meetings.php.

Council address: Gulf of Mexico Fishery Management Council, 2203 North Lois Avenue, Suite 1100, Tampa, FL 33607.

FOR FURTHER INFORMATION CONTACT: Doug Gregory, Executive Director, Gulf of Mexico Fishery Management Council; telephone: (813) 348-1630; fax: (813) 348-1711; email: doug.gregory@gulfcouncil.org

SUPPLEMENTARY INFORMATION: The items of discussion on the agenda are as follows:

(1) Review Scientific and Statistical Committee (SSC) Red Snapper Acceptable Biological Catch (ABC) Recommendations

(2) Public Comment regarding a Framework Action to Adjust the Red Snapper Annual Catch Limit

(3) Review and take Final Action on a Framework Action to Adjust the Red Snapper Annual Catch Limit

(4) Other Business

—Adjourn—

For meeting materials visit the Council's Web site http://www.gulfcouncil.org. The meeting will be webcast over the internet. A link to the webcast will be available on the Council's Web site http://gulfcouncil.org/council_meetings/Webinars.php.

Although non-emergency issues not contained in this agenda may come before the Council for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: February 10, 2015.
Tracey L. Thompson,
Acting Deputy Director, Office of Sustainable Fisheries, National Marine Fisheries Service.

[FR Doc. 2015-03041 Filed 2-12-15; 8:45 am]

BILLING CODE 3510-22-P